DEPARTMENT OF AGRICULTURE

Rural Utilities Service

[Docket #: RUS-21-AGENCY-0001]

Notice of Request for Revision of a Currently Approved Information Collection; Comments Requested

AGENCY: Rural Utilities Service, USDA.

ACTION: Notice and request for comments.

SUMMARY: In accordance with the Paperwork Reduction Act of 1995, the United States Department of Agriculture (USDA) Rural Utilities Service (RUS) invites comments on this information collection for which the RUS intends to request approval from the Office of Management and Budget (OMB).

DATES: Comments on this notice must be received by April 12, 2021.

FOR FURTHER INFORMATION CONTACT: Lauren Cusick, Management Analyst, Regulations Management Division, Innovation Center, U.S. Department of Agriculture, 1400 Independence Ave. SW, STOP 1571, South Building, Washington, DC 20250-1522. Telephone: (202) 720-1414. Email: Lauren.Cusick@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB as extension to an existing collection with Agency adjustment. Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent by the Federal eRulemaking Portal: Go to http://www.regulations.gov and, in the lower “Search Regulations and Federal Actions” box, select “RUS” from the agency drop-down menu, then click on “Submit.” In the Docket ID column, select 0572-0095 to submit or view public comments and to view supporting and related materials available electronically. Information on using Regulations.gov, including instructions for accessing documents, submitting comments, and viewing the docket after the close of the comment period, is available through the site's “User Tips” link.

Title: 7 CFR 1773, Policy on Audits of RUS Borrowers.

OMB Control Number: 0572-0095.

Expiration Date of Approval: February 28, 2022.

Type of Request: Revision of a currently approved collection.

Abstract: The Rural Utilities Service relies on the information provided by the borrowers in their financial statements to make lending decisions as to borrowers' credit worthiness and to assure that loan funds are approved, advanced and disbursed for proper RE Act purposes. These financial statements are audited by a certified public accountant to provide independent assurance that the data being reported are properly measured and fairly presented.

Estimate of Burden: Public reporting burden for this collection of information is estimated to average 8.17 hours per response.

Respondents: Business or other for-profit, Not-for-profit institutions.

Estimated Number of Respondents and Recordkeepers: 1,300.

Estimated Number of Responses per Respondent: 1.35.

Estimated Number of Responses: 1,764.

Estimated Total Annual Burden on Respondents: 14,420 hours.

Copies of this information collection can be obtained from Lauren Cusick, Regulations and Paperwork Management Branch, at (202) 720-1414. Email: Lauren.Cusick@usda.gov.) 205-3660, Fax: (202) 720-8435.

All responses to this notice will be summarized and included in the request for OMB approval. All comments will also become a matter of public record.

Christopher McLean,
Acting Administrator, Rural Utilities Service.

[FR Doc. 2021-02600 Filed 2-8-21; 8:45 am]

BILLING CODE 3410-15-P